DEPARTMENT OF HOUSING AND URBAN DEVELOPMENT

Office of Federal Housing Enterprise Oversight; Strategic Plan

AGENCY: Office of Federal Housing Enterprise Oversight, HUD.

ACTION: Solicitation of comments for Updating the Strategic Plan.

SUMMARY: Office of Federal Housing Enterprise Oversight (OFHEO) is soliciting comments as it updates its Strategic Plan. In accordance with the requirements of the Government Performance and Results Act of 1993 that agencies update their Strategic Plans every three years, OFHEO is developing its 2006-2011 Strategic Plan and soliciting the views and suggestions of those entities potentially affected by or interested in the plan. OFHEO's current Strategic Plan, for FY 2003-2008, may be viewed on the OFHEO Web site at http://www.ofheo.gov in the “About OFHEO” section.

DATES: Written comments regarding the Strategic Plan must be received by May 5, 2006.

ADDRESSES: All comments concerning the notice should be addressed to: Susan S. Jacobs, Chief Strategic Planning Officer, Office of Federal Housing Enterprise Oversight, 1700 G Street, NW., Third Floor, Washington, DC 20552. Comments may also be submitted via electronic mail to: “StrategicPlan@ofheo.gov”. OFHEO requests that written comments submitted in hard copy also be accompanied by the electronic version in MS Word or in portable document format (PDF) on 3.5 disk or CD-ROM. If OFHEO cannot read your comment due to technical difficulties and cannot contact you for clarification, OFHEO may not be able to consider your comment. Electronic files should avoid the use of special characters and any form of encryption, and be free of any defects or viruses.

FOR FURTHER INFORMATION CONTACT: Susan S. Jacobs, Chief Strategic Planning Officer, Office of Federal Housing Enterprise Oversight, 1700 G Street, NW., Third Floor, Washington, DC 20552, telephone (202) 414-3821 (not a toll-free number). The telephone number for the Telecommunications Device for the Deaf is: (800) 877-8339.

SUPPLEMENTARY INFORMATION: The Office of Federal Housing Enterprise Oversight (OFHEO) is charged by Congress, as established in Title XIII of the Housing and Community Development Act of 1992, known as the Federal Housing Enterprises Financial Safety and Soundness Act of 1992, with the mandate of overseeing the Federal National Mortgage Association and the Federal Home Loan Mortgage Corporation, Fannie Mae and Freddie Mac (Enterprises).

Three years ago, OFHEO adopted a Strategic Plan covering FY 2003-2008. Section 306 of the Government Performance and Results Act of 1993 (GPRA), 31 U.S.C. 1115 et seq., requires that agencies update and revise their Strategic Plans every three years. OFHEO is currently drafting a new plan for FY 2006-2011 that will describe the agency's mission, strategic goals and objectives, and strategies to achieve them. This plan will provide a framework for the years ahead. OFHEO uses its Strategic Plan to guide each year's performance goals, which are described in OFHEO's Annual Performance Budgets. They may be viewed on the OFHEO Web site at http://www.ofheo.gov in the “News Center & FOIA” section, “Reports” section.

In today's notice, OFHEO is soliciting the views and suggestions that may be considered in the development of its revised plan. Additionally, OFHEO will publish a draft plan on the OFHEO Web site in late summer and will continue to encourage comments. OFHEO will then submit its Strategic Plan to the President and the Congress, pursuant to the statutory requirements, and make it available to the public on the OFHEO Web site.

Dated: April 3, 2006.
Stephen A. Blumenthal
Acting Director, Office of Federal Housing Enterprise Oversight.

[FR Doc. E6-5129 Filed 4-6-06; 8:45 am]

BILLING CODE 4220-01-P